DEPARTMENT OF JUSTICE

Drug Enforcement Administration

Importer of Controlled Substances Notice of Registration

By notice dated September 2, 2003, and published in the Federal Register on October 27, 2003 (68 FR 61234-61235), Sigma Aldrich Company, Subsidiary of Sigma-Aldrich Corporation, 3500 Dekalb Street, St. Louis, Missouri 63118, made application by renewal to the Drug Enforcement Administration (DEA) to be registered as an importer of the basic classes of controlled substances listed below:

Drug | Schedule
Cathinone (1235) | I
Methcathinone (1237) | I
Aminorex (1585) | I
Gamma Hydroxybutyric Acid (2010) | I
Methaqualone (2565) | I
Ibogaine (7260) | I
Lysergic acid diethylamide (7315) | I
Mescaline (7381) | I
4-Bromo-2, 5-dimethoxy-amphetamine (7391) | I
4-Bromo-2, 5-dimethoxyphenethylamine (7392) | I
2, 5-Dimethoxyamphetamine (7396) | I
3, 4-Methylenedioxyamphetamine (7400) | I
N-Hydroxy-3, 4-methylenedioxyamphetamine (7402) | I
3, 4-Methylenedioxy-N-ethylamphetamine (7404) | I
3, 4-Methylenedioxymethamphetamine (MDMA) (7405) | I
4-Methoxyamphetamine (7411) | I
Bufotenine (7433) | I
Psilocyn (7438) | I
Benzylpiperazine (BZP) (7493) | I
1-[3-(trifluoro-methyl)plenyl] Piperazine (TFMPP) (7494) | I
Heroin (9200) | I
Normorphine (9313) | I
Etonitazene (9624) | I
Amphetamine (1100) | II
Methamphetamine (1105) | II
Methylphenidate (1724) | II
Amobarbital (2125) | II
Pentobarbital (2270) | II
Secobarbital (2315) | II
Glutethimide (2550) | II
Phencyclidine (7471) | II
Cocaine (9041) | II
Codeine (9050) | II
Diprenorphine (9058) | II
Oxycodone (9143) | II
Hydromorphone (9150) | II
Ecgonine (9180) | II
Ethylmorphine (9190) | II
Hydrocodone (9193) | II
Levorphanol (9220) | II
Meperidine (9230) | II
Methadone (9250) | II
Dextropropoxyphene, bulk (non-dosage forms) (9273) | II
Morphine (9300) | II
Thebaine (9333) | II
Opium powdered (9649) | II
Oxymorphone (9652) | II
Fentanyl (9801) | II

The firm plans to repackage and offer as pure standards controlled substances in small quantities for drug testing and analysis.

No comments or objections have been received. DEA has considered the factors in title 21, United States code, section 823(a) and determined that the registration of Sigma Aldrich Company to import the listed controlled substances is consistent with the public interest and with United States obligations under international treaties, conventions, or protocols in effect on May 1, 1971, at this time. DEA has investigated Sigma Aldrich Company on a regular basis to ensure that the company's continued registration is consistent with the public interest. This investigation included inspection and testing of the company's physical security systems, verification of the company's compliance with State and local laws, and a review of the company's background and history. Therefore, pursuant to section 1008(a) of the Controlled Substances Import and Export Act and in accordance with title 21, Code of Federal Regulations, section 1301.34, the above firm is granted registration as an importer of the basic classes of controlled substances listed.

Dated: January 12, 2004.
Laura M. Nagel,
Deputy Assistant Administrator, Office of Diversion Control, Drug Enforcement Administration.

[FR Doc. 04-2344 Filed 2-4-04; 8:45 am]

BILLING CODE 4410-09-M